DEPARTMENT OF LABOR

Office of Disability Employment Policy

Agency Information Collection Activities; Comment Request; EARN Perspectives of Jobseekers With Disabilities: The Impact of Employer Messaging

ACTION: Notice of information collections and request for comments.

SUMMARY: In compliance with the Paperwork Reduction Act of 1995, the DOL is soliciting public comments regarding this ODEP-sponsored information collection to the Office of Management and Budget (OMB) for review and approval.

DATES: Comments pertaining to this information collection are due on or before June 28, 2021.

ADDRESSES:

Electronic submission: You may submit comments and attachments electronically at http://www.regulations.gov. Follow the online instructions for submitting comments. Mail submission: 200 Constitution Ave. NW, Room S-5315, Washington, DC 2020. Comments are invited on: (1) Whether the collection of information is necessary for the proper performance of the functions of the DOL, including whether the information will have practical utility; (2) if the information will be processed and used in a timely manner; (3) the accuracy of the DOL's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Lou Orslene by telephone at 202-693-7928 (this is not a toll-free number) or by email at DOL_PRA_PUBLIC@dol.gov.

SUPPLEMENTARY INFORMATION: The Employer Assistance and Resource Network on Disability Inclusion (EARN) is a resource for employers seeking to recruit, hire, retain, and advance qualified employees with disabilities. EARN assists employers through online support and a range of education and outreach activities, including webinars, a website with employer-focused resources such as toolkits, a monthly e-newsletter, social media posts, and training videos. It is funded by the U.S. Department of Labor's Office of Disability Employment Policy under a cooperative agreement with Cornell University.

Phase 1 of the EARN Rapid Cycle Research (RCR) process asked employers about current approaches to online outreach to people with disabilities, the effectiveness of these approaches, their information needs related to online outreach, and remaining priority information needs. Building on this gap assessment relating to employer outreach and people with disabilities, there are two issues not previously addressed and worth further examination under the next phase of the EARN RCR process. These are:

1. How to increase self-identification of disability status in the recruitment process, and

2. Understanding why jobseekers with disabilities may choose to apply (or not) to an organization.

In both cases, employers who participated in the RCR focus groups were interested in hearing directly from jobseekers/employees with disabilities about what might influence these decisions. This project will query individuals with disabilities about their impressions of messaging from organizations, specifically related to career pages on the company website(s). This inquiry directly builds from the EARN Year One RCR-related efforts in conducting a literature review on online recruitment of and outreach to people with disabilities, as well as a report from a review of 40 Fortune 500 company career pages. Employers made it clear that, given limited resources, a strong case needs to be made for innovations in this process, and, if only a few things can be changed, they want to understand what will be most impactful in facilitating applicants with disabilities to apply for their positions and to identify as a person with a disability. Findings will be used to add the needed critical perspective of people with disabilities to the development of resources for employers related to effective online outreach to people with disabilities. These resources will be available on the EARN website and promoted throughout extensive networks of employer national and international professional associations that are partnered with EARN.

Study objectives:

• To build understanding from an applicant's perspective of how employer messaging in the online outreach process impacts key outcomes related to recruiting people with disabilities;

• To provide information and resources informed by the perspectives of people with disabilities that will support organizations in improving messaging in cost-effective ways.

This information collection is subject to the Paperwork Reduction Act (PRA). A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

The DOL seeks PRA authorization for this information collection for three (3) years. OMB authorization for an Information Collection Review cannot be for more than three (3) years without renewal. The DOL notes that currently approved information collection requirements submitted to the OMB receive a month-to-month extension while they undergo review.

Agency: DOL-ODEP.

Type of Review: New information collection.

Title of Collection: EARN Perspectives of Jobseekers with Disabilities: the Impact of Employer Messaging.

OMB Control Number: 1230-0NEW.

Affected Public: Individuals or Households.

Total Estimated Number of Respondents: 200.

Frequency: Once.

Total Estimated Number of Responses: 200.

Total Estimated Annual Time Burden: 16.7 hours.

Total Estimated Annual Other Costs Burden: $0.

(Authority: 44 U.S.C. 3506(c)(2)(A))

Dated: April 20, 2021.
Jennifer Sheehy,
Deputy Assistant Secretary, Office of Disability Employment Policy.

[FR Doc. 2021-08932 Filed 4-28-21; 8:45 am]

BILLING CODE 4510-FK-P